DEPARTMENT OF ENERGY

Federal Energy Regulatory Commission

Combined Notice of Filings

Take notice that the Commission has received the following Natural Gas Pipeline Rate and Refund Report filings:

Filings Instituting Proceedings

Docket Numbers: RP22-609-000.

Applicants: TransColorado Gas Transmission Company LLC.

Description: § 4(d) Rate Filing: Quarterly FLU Update Filing to be effective 4/1/2022.

Filed Date: 2/28/22.

Accession Number: 20220228-5078.

Comment Date: 5 p.m. ET 3/14/22.

Docket Numbers: RP22-610-000.

Applicants: Dominion Energy Questar Pipeline, LLC.

Description: § 4(d) Rate Filing: Access Agreement Version 7.0.0 to be effective 3/31/2022.

Filed Date: 2/28/22.

Accession Number: 20220228-5080.

Comment Date: 5 p.m. ET 3/14/22.

Docket Numbers: RP22-611-000.

Applicants: Dominion Energy Overthrust Pipeline, LLC.

Description: § 4(d) Rate Filing: Access Agreement Revision, Version 5.0.0 to be effective 3/31/2022.

Filed Date: 2/28/22.

Accession Number: 20220228-5083.

Comment Date: 5 p.m. ET 3/14/22.

Docket Numbers: RP22-612-000.

Applicants: White River Hub, LLC.

Description: § 4(d) Rate Filing: Electronic Access Agreement Version 4.0.0 to be effective 3/31/2022.

Filed Date: 2/28/22.

Accession Number: 20220228-5084.

Comment Date: 5 p.m. ET 3/14/22.

Docket Numbers: RP22-613-000.

Applicants: Northern Natural Gas Company.

Description: § 4(d) Rate Filing: 20220228 Negotiated Rate to be effective 3/1/2022.

Filed Date: 2/28/22.

Accession Number: 20220228-5086.

Comment Date: 5 p.m. ET 3/14/22.

Docket Numbers: RP22-614-000.

Applicants: Kern River Gas Transmission Company.

Description: § 4(d) Rate Filing: 2022 Daggett Surcharge to be effective 4/1/2022.

Filed Date: 2/28/22.

Accession Number: 20220228-5089.

Comment Date: 5 p.m. ET 3/14/22.

Docket Numbers: RP22-615-000.

Applicants: Sabine Pipe Line LLC.

Description: § 4(d) Rate Filing: Normal Section 5 21—rate changes 2022 to be effective 4/1/2022.

Filed Date: 2/28/22.

Accession Number: 20220228-5095.

Comment Date: 5 p.m. ET 3/14/22.

Docket Numbers: RP22-616-000.

Applicants: Wyckoff Gas Storage Company, LLC.

Description: Compliance filing: Order 587-Z NAESB Compliance 2-28-2022 to be effective 6/1/2022.

Filed Date: 2/28/22.

Accession Number: 20220228-5156.

Comment Date: 5 p.m. ET 3/14/22.

Docket Numbers: RP22-617-000.

Applicants: El Paso Natural Gas Company, L.L.C.

Description: § 4(d) Rate Filing: Non-Conforming Amendments Filing (TEP) to be effective 4/1/2022.

Filed Date: 2/28/22.

Accession Number: 20220228-5185.

Comment Date: 5 p.m. ET 3/14/22.

Docket Numbers: RP22-618-000.

Applicants: Nautilus Pipeline Company, L.L.C.

Description: § 4(d) Rate Filing: Negotiated Rate—Murphy Exploration 630216 eff 3-1-2022 to be effective 3/1/2022.

Filed Date: 2/28/22.

Accession Number: 20220228-5201.

Comment Date: 5 p.m. ET 3/14/22.

Docket Numbers: RP22-619-000.

Applicants: Wyoming Interstate Company, L.L.C.

Description: § 4(d) Rate Filing: Non-Conforming Amendments Filing (Mieco_TMV) to be effective 4/1/2022.

Filed Date: 2/28/22.

Accession Number: 20220228-5211.

Comment Date: 5 p.m. ET 3/14/22.

Docket Numbers: RP22-620-000.

Applicants: Southern Star Central Gas Pipeline, Inc.

Description: § 4(d) Rate Filing: Fuel Filing—Eff. April 1, 2022 to be effective 4/1/2022.

Filed Date: 2/28/22.

Accession Number: 20220228-5214.

Comment Date: 5 p.m. ET 3/14/22.

Docket Numbers: RP22-621-000.

Applicants: LA Storage, LLC.

Description: § 4(d) Rate Filing: Filing of Negotiated Rate, Conforming IW Agreement (TMV) to be effective 3/1/2022.

Filed Date: 2/28/22.

Accession Number: 20220228-5221.

Comment Date: 5 p.m. ET 3/14/22.

Docket Numbers: RP22-622-000.

Applicants: LA Storage, LLC.

Description: § 4(d) Rate Filing: LA Storage 2022 Annual Adjustment of Fuel Retainage Percentage to be effective 4/1/2022.

Filed Date: 2/28/22.

Accession Number: 20220228-5225.

Comment Date: 5 p.m. ET 3/14/22.

Docket Numbers: RP22-623-000.

Applicants: NEXUS Gas Transmission, LLC.

Description: § 4(d) Rate Filing: 2022 NEXUS ASA Filing to be effective 4/1/2022.

Filed Date: 2/28/22.

Accession Number: 20220228-5239.

Comment Date: 5 p.m. ET 3/14/22.

Docket Numbers: RP22-624-000.

Applicants: Columbia Gulf Transmission, LLC.

Description: § 4(d) Rate Filing: TRA 2022 to be effective 4/1/2022.

Filed Date: 2/28/22.

Accession Number: 20220228-5241.

Comment Date: 5 p.m. ET 3/14/22.

Docket Numbers: RP22-625-000.

Applicants: Enable Gas Transmission, LLC.

Description: § 4(d) Rate Filing: Line CP Fuel Exemption Filing 4.1.2022 to be effective 4/1/2022.

Filed Date: 2/28/22.

Accession Number: 20220228-5249.

Comment Date: 5 p.m. ET 3/14/22.

Docket Numbers: RP22-626-000.

Applicants: El Paso Natural Gas Company, L.L.C.

Description: § 4(d) Rate Filing: Negotiated Rate Agreement Update (Devon) to be effective 3/1/2022.

Filed Date: 2/28/22.

Accession Number: 20220228-5251.

Comment Date: 5 p.m. ET 3/14/22.

Docket Numbers: RP22-627-000.

Applicants: High Island Offshore System, L.L.C.

Description: 2021 Annual Fuel Tracker Filing of High Island Offshore System, L.L.C.

Filed Date: 2/28/22.

Accession Number: 20220228-5368.

Comment Date: 5 p.m. ET 3/14/22.

Docket Numbers: RP22-628-000.

Applicants: UGI Sunbury, LLC.

Description: 2022 Annual Retainage Adjustment Tariff Filing of UGI Sunbury, LLC.

Filed Date: 2/28/22.

Accession Number: 20220228-5379.

Comment Date: 5 p.m. ET 3/14/22.

Docket Numbers: RP22-629-000.

Applicants: Alliance Pipeline L.P.

Description: § 4(d) Rate Filing: Negotiated Rates—Various Mar 1 2022 Capacity Releases to be effective 3/1/2022.

Filed Date: 3/1/22.

Accession Number: 20220301-5010.

Comment Date: 5 p.m. ET 3/14/22.

Docket Numbers: RP22-630-000.

Applicants: Columbia Gas Transmission, LLC.

Description: § 4(d) Rate Filing: EPCA 2022 to be effective 4/1/2022.

Filed Date: 3/1/22.

Accession Number: 20220301-5011.

Comment Date: 5 p.m. ET 3/14/22.

Docket Numbers: RP22-631-000.

Applicants: Columbia Gas Transmission, LLC.

Description: § 4(d) Rate Filing: TCRA 2022 to be effective 4/1/2022.

Filed Date: 3/1/22.

Accession Number: 20220301-5012.

Comment Date: 5 p.m. ET 3/14/22.

Docket Numbers: RP22-632-000.

Applicants: Crossroads Pipeline Company.

Description: § 4(d) Rate Filing: TRA 2022 to be effective 4/1/2022.

Filed Date: 3/1/22.

Accession Number: 20220301-5013.

Comment Date: 5 p.m. ET 3/14/22.

Docket Numbers: RP22-633-000.

Applicants: Columbia Gas Transmission, LLC.

Description: § 4(d) Rate Filing: RAM 2022 to be effective 4/1/2022.

Filed Date: 3/1/22.

Accession Number: 20220301-5015.

Comment Date: 5 p.m. ET 3/14/22.

Docket Numbers: RP22-634-000.

Applicants: High Island Offshore System, L.L.C.

Description: § 4(d) Rate Filing: Storm Damage Surchage 2022 to be effective 4/1/2022.

Filed Date: 3/1/22.

Accession Number: 20220301-5016.

Comment Date: 5 p.m. ET 3/14/22.

Docket Numbers: RP22-636-000.

Applicants: BBT Midla, LLC.

Description: Compliance filing: BBT Midla, LLC Annual Fuel Filing to be effective N/A.

Filed Date: 3/1/22.

Accession Number: 20220301-5017.

Comment Date: 5 p.m. ET 3/14/22.

Docket Numbers: RP22-637-000.

Applicants: Cimarron River Pipeline, LLC.

Description: § 4(d) Rate Filing: Fuel Tracker 2022—Summer Season Rates to be effective 4/1/2022.

Filed Date: 3/1/22.

Accession Number: 20220301-5026.

Comment Date: 5 p.m. ET 3/14/22.

Docket Numbers: RP22-638-000.

Applicants: Dauphin Island Gathering Partners.

Description: § 4(d) Rate Filing: Storm Surcharge 2022 to be effective 4/1/2022.

Filed Date: 3/1/22.

Accession Number: 20220301-5027.

Comment Date: 5 p.m. ET 3/14/22.

Docket Numbers: RP22-639-000.

Applicants: El Paso Natural Gas Company, L.L.C.

Description: § 4(d) Rate Filing: Negotiated Rate Agreement Update (Conoco Mar 22) to be effective 3/2/2022.

Filed Date: 3/1/22.

Accession Number: 20220301-5029.

Comment Date: 5 p.m. ET 3/14/22.

Docket Numbers: RP22-640-000.

Applicants: El Paso Natural Gas Company, L.L.C.

Description: § 4(d) Rate Filing: Negotiated Rate Agreement Update (EOG) to be effective 4/1/2022.

Filed Date: 3/1/22.

Accession Number: 20220301-5030.

Comment Date: 5 p.m. ET 3/14/22.

Docket Numbers: RP22-641-000.

Applicants: El Paso Natural Gas Company, L.L.C.

Description: § 4(d) Rate Filing: Negotiated Agreement Update Filing (Hartree and EDF) to be effective 4/1/2022.

Filed Date: 3/1/22.

Accession Number: 20220301-5032.

Comment Date: 5 p.m. ET 3/14/22.

Docket Numbers: RP22-642-000.

Applicants: Florida Gas Transmission Company, LLC.

Description: § 4(d) Rate Filing: Fuel Filing on 3-1-22 to be effective 4/1/2022.

Filed Date: 3/1/22.

Accession Number: 20220301-5033.

Comment Date: 5 p.m. ET 3/14/22.

Docket Numbers: RP22-643-000.

Applicants: Panhandle Eastern Pipe Line Company, LP.

Description: § 4(d) Rate Filing: Fuel Filing on 3-1-22 to be effective 4/1/2022.

Filed Date: 3/1/22.

Accession Number: 20220301-5034.

Comment Date: 5 p.m. ET 3/14/22.

Docket Numbers: RP22-644-000.

Applicants: Trunkline Gas Company, LLC.

Description: § 4(d) Rate Filing: Fuel Filing on 3-1-22 to be effective 4/1/2022.

Filed Date: 3/1/22.

Accession Number: 20220301-5035.

Comment Date: 5 p.m. ET 3/14/22.

Docket Numbers: RP22-645-000.

Applicants: Rover Pipeline LLC.

Description: § 4(d) Rate Filing: Fuel Filing on 3-1-22 to be effective 4/1/2022.

Filed Date: 3/1/22.

Accession Number: 20220301-5037.

Comment Date: 5 p.m. ET 3/14/22.

Docket Numbers: RP22-646-000.

Applicants: MarkWest Pioneer, L.L.C.

Description: § 4(d) Rate Filing: Quarterly Fuel Adjustment Filing to be effective 4/1/2022.

Filed Date: 3/1/22.

Accession Number: 20220301-5043.

Comment Date: 5 p.m. ET 3/14/22.

Docket Numbers: RP22-647-000.

Applicants: Columbia Gas Transmission, LLC.

Description: § 4(d) Rate Filing: Non-Conforming Service Agmts—COR (78194 & 78195) to be effective 4/1/2022.

Filed Date: 3/1/22.

Accession Number: 20220301-5044.

Comment Date: 5 p.m. ET 3/14/22.

Docket Numbers: RP22-648-000.

Applicants: Midship Pipeline Company, LLC.

Description: Compliance filing: Midship Pipeline Transportation Retainage Adjustment to be effective 4/1/2022.

Filed Date: 3/1/22.

Accession Number: 20220301-5045.

Comment Date: 5 p.m. ET 3/14/22.

Docket Numbers: RP22-649-000.

Applicants: Cheniere Creole Trail Pipeline, L.P.

Description: Compliance filing: CCTPL Transportation Retainage Adjustment to be effective 4/1/2022.

Filed Date: 3/1/22.

Accession Number: 20220301-5046.

Comment Date: 5 p.m. ET 3/14/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP22-432-001.

Applicants: Great Basin Gas Transmission Company.

Description: Compliance filing: Gas Quality Specifications to be effective 4/1/2022.

Filed Date: 2/28/22.

Accession Number: 20220228-5252.

Comment Date: 5 p.m. ET 3/14/22.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2022.
Debbie-Anne A. Reese,
Deputy Secretary.

[FR Doc. 2022-04727 Filed 3-4-22; 8:45 am]

BILLING CODE 6717-01-P